FEDERAL EMERGENCY MANAGEMENT AGENCY

Privacy Act of 1974: Proposed New Routine Use, Expansion of an Existing Use and Revision of an Existing System of Records

AGENCY: Federal Emergency Management Agency (FEMA).

ACTION: Notice of proposed new routine uses, revision of an existing system of records and addition of new systems of records.

SUMMARY: Pursuant to the requirements of the Privacy Act of 1974, as amended, 5 U.S.C. 552a, we, the Federal Insurance and Mitigation Administration (FIMA) of FEMA, give notice of proposed new routine uses, and revision of an existing system of records entitled FEMA/FIA 2, National Flood Insurance Program Application and Related Documents Files and addition of new systems of records.

DATES: The proposed routine uses, revision of existing system of record and addition of new systems of records will become effective on January 23, 2002, without further notice unless comments necessitate otherwise.

We invite your comments on these routine uses and revisions on or before February 22, 2002.

ADDRESSES: Please address comments to the Rules Docket Clerk, Office of the General Counsel, Federal Emergency Management Agency, room 840, 500 C Street, SW., Washington, DC 20472; (telefax) (202) 646-4536, or (email) rules@fema.gov.

FOR FURTHER INFORMATION CONTACT: Eileen Leshan, FOIA/Privacy Act Specialist, Federal Emergency Management Agency, room 840, 500 C Street SW., Washington, DC 20472, (202) 646-4115, (telefax) (202) 646-4536, or email Eileen.Leshan@fema.gov.

SUPPLEMENTARY INFORMATION: We last published our notice of system of records on September 11, 2001, 66 FR 47228; January 5, 1987 (52 FR 324); February 3, 1987 (52 FR 3344); March 5, 1987 (52 FR 6875); September 7, 1990 (55 FR 37182); and June 7, 1991 (56 FR 26415). We previously published the system identified as FEMA/FIA-2, National Flood Insurance Application and Related Files on November 26, 1982, 47 FR 53492; amended on October 25, 1983, 48 FR 49376; February 17,1984, 49 FR 6168; May 13,1985, 50 FR 20007; January 5,1987, 52 FR 324; July 28,1988, 53 FR 28437; August 9, 1988, 53 FR 29947.

Proposed New Routine Use

We have created the Repetitive Loss Target Group (RLTG) as part of an initiative to reduce claims under the National Flood Insurance Program (NFIP) with respect to properties that have sustained multiple losses. Generally, we have defined repetitive loss properties as those that have had at least two losses of $1,000 or more within any 10-year period. The RLTG is a subset of these properties that include currently insured properties that have either:

(1) Two or more losses that in the aggregate, equal or exceed the current value of the insured property; or

(2) Four or more losses.

Approximately 11,000 properties are included in the RLTG.

Inclusion of a property in the RLTG results in the transfer of the flood insurance policy to a central facility (Special Direct Facility (SDF)) designed to oversee claims and to coordinate and facilitate mitigation, which will require a new Routine Use to allow transfer of the NFIP Bureau and Statistical Agent RLTG, records to the NFIP's SDF, which has been created for oversight of RLTG activities. Accordingly, a new Routine Use is proposed to permit transfer of RLTG records from the NFIP Bureau and Statistical Agent to the NFIP Special Direct Facility.

Proposed New Routine Use

We have created the Preferred Risk Policy (PRP) for policyholders (1-4 Family) with limited loss experience only located in B, C, and X Zones. Eligible policyholders receive a discount off the standard flood insurance rate. To be eligible to receive this benefit, however, there are certain conditions based upon the building's loss history, regardless of ownership that the owner must meet.

If any of the following conditions, arising from one or more occurrences, exist then the dwelling is not eligible:

(1) 2 loss payments, each more than $1,000;

(2) 3 or more loss payments, regardless of amount;

(3) 2 Federal Disaster Relief payments, each more than $1,000;

(4) 3 Federal Disaster Relief payments, regardless of amount; or

(5) 1 flood insurance claim payment and 1 flood disaster relief payment (including loans and grants), each more than $1,000.

If a policyholder applies for a PRP, and is denied, he needs NFIP records regarding the property's loss history before his or her ownership to determine whether the NFIP's determination was correct. Currently, these records are protected from disclosure. Accordingly, we propose a new Routine Use to permit release of a property's prior loss history to a policyholder whose PRP application we have denied.

Proposed New Routine Use

In many instances FEMA must work closely with federal agencies, state and local governments in order to achieve the objectives of the NFIP. In this connection, FEMA will need to transfer NFIP records to federal agencies and state and local governments for the purpose of analysis, research and feasibility studies. Accordingly, we propose a new Routine Use to permit release of NFIP records to federal agencies and state and local governments for research, analysis and feasibility studies.

Revision of an Existing System of Records

We are also revising our existing routine use system, FIMA/FEMA-2 to reflect changes mandated by the passage of time.

New System of Records

We are adding new systems of records to reflect the growth and expansion of the NFIP.

Dated: January 10, 2002.
Michael D. Brown,
General Counsel.

The proposed new routine uses, and the new and revised systems of records follow:

FEMA-FIMA-2

System Name:

National Flood Insurance Direct Servicing Agent Application and Related Documents Files.

Security Classification:

Unclassified.

System Location:

Various offices of a servicing agent under contract to the Federal Insurance and Mitigation Administration, Federal Emergency Management Agency, Washington, DC 20472. We also provide copies of some files to the FEMA Regional offices when they request additional information.

Categories of Individuals Covered by the System:

Applicants for individual flood insurance and individuals insured.

Categories of Records in the System:

Form | Title of form
FEMA Form 81-64 | Applications for Participation in the National Flood Insurance Program.
FEMA Form 81-16 | Flood Insurance Application.
FEMA Form 81-18 | Flood Insurance General Change Endorsements.
FEMA Form 81-23 | Request for Policy Processing and Renewal Information.
FEMA Form 81-17 | Flood Insurance Cancellation/Nullification Request Form.
FEMA Form 81-67 | Flood Insurance Preferred Risk Policy Application.
FEMA Form 81-31 | National Flood Insurance Program Elevation Certificate.
FEMA Form 81-65 | National Flood Insurance Program Floodproofing Certificate.
FEMA Form 81-25 | V Zone Risk Factor Rating Form.
FEMA Form 81-40 | National Flood Insurance Program Worksheet—Contents.
FEMA Form 81-41 | National Flood Insurance Program Worksheet—Building.
FEMA Form 41a | National Flood Insurance Program Worksheet—Building.
FEMA Form 81-42 | National Flood Insurance Proof of Loss.
FEMA Form 81-43 | National Flood Insurance Program Notice of Loss.
FEMA Form 81-44 | Statement as to full cost of repair or replacement under the replacement cost coverage, subject to the terms and conditions of the Standard Flood Insurance Policy.
FEMA Form 81-45 | Adjuster's Short Form Report.
FEMA Form 81-57 | National Flood Insurance Program Preliminary Report.
FEMA Form 81-58 | National Flood Insurance Program Final Report.
FEMA Form 81-59 | National Flood Insurance Program Narrative Report.
FEMA Form 81-63 | National Flood Insurance Program Cause of Loss/Subrogation Report.

This system may contain information regarding the name of the bank/lender, date of mortgage, address of the bank/lender and if available, information on every loan placed on the property during the current owner's tenure. This system may also contain the taxpayers' identification number, which may be the social security number.

Authority for Maintenance of the System:

National Flood Insurance Act of 1968 and Flood Disaster Protection Act of 1973, 42 U.S.C. 4001-4129; 5 U.S.C. 301; Reorganization Plan No. 3 of 1978, 3 CFR, 1978 Comp., p. 329; and E.O. 12127, 3 CFR, 1979 Comp., p. 376.

Purpose(s):

To carry out the National Flood Insurance Program and verify nonduplication of benefits.

Routine Uses of Records Maintained in the System, Including Categories of Users and the Purposes of Such Uses:

To insurance agents, brokers, adjusters and lending institutions NFIP policy and claims records for carrying out the purposes of the National Flood Insurance Program and verifying nonduplication of benefits.

To states, Group Flood Insurance Program (GFIP) certificates are provided for carrying out the purposes of the National Flood Insurance Program.

To the Bureau and Statistical Agent, the Direct Servicing Agent provides Transaction Records Reporting and Processing Plan updates regarding policy and claims transactions.

Disclosure to Consumer Reporting Agencies:

Disclosure under 5 U.S.C. 552a(b)(12): We may make disclosures from this system to “consumer reporting agencies” as defined in the Fair Credit Reporting Act (15 U.S.C. 1661a(f)) or the Federal Claims Collection Act of 1966 (31 U.S.C. 3701(a)(3)).

Policies and Practices for Storing, Retrieving, Accessing, Retaining, and Disposing of Records in System: Storage:

Magnetic Tape/disc/microfilm and paper files.

Retrievability:

By name of the policyholder(s) and policy number.

Safeguards:

Personnel screening, hardware and software computer security measures; we maintain paper records in locked containers and/or room. We maintain all records in secure areas by card key access during non-business hours. We retain records in areas accessible only to authorized personnel, who are properly screened, cleared and trained.

Retention and Disposal:

We keep policy records as long as the owner desires insurance and pays premiums, and for an appropriate time thereafter and we keep claim records for 6 years and 3 months after final action, unless litigation exists. We will dispose of records in accord with FEMA Records Schedule N1-311-86-1, 2A12 and 2A13.

System Manager(s) and Address:

Administrator, Federal Insurance and Mitigation Administration, Federal Emergency Management Agency, Washington, DC 20472.

Notification Procedures:

Individuals wishing to inquire whether this system of records contains information about themselves should contact the system manager identified above. Written requests should be clearly marked “Privacy Act Request” on the envelope and letter. Requests should include the full name of the individual, some type of appropriate personal identification, and current address. For personal visits, the individual should be able to provide some acceptable identification, that is, a driver's license, employing organization's identification card, or other identification card.

Record Access Procedures:

Same as Notification procedure above.

Contesting Record Procedures:

Same as Notification procedures above. The letter should state clearly and concisely what information is being contested, the reasons for contesting it, and the proposed amendment to the information sought.

FEMA Privacy Act Regulations are published in 44 CFR part 6.

Records Source Categories:

Individuals who apply for flood insurance under the National Flood Insurance Program and individuals who are insured under the program.

Exemptions Claimed for the System:

None.

FEMA/FIMA-3

System Name:

National Flood Insurance Bureau and Statistical Agent (BSA) Data Elements and Related Files.

Security Classification:

Unclassified.

System Location:

Various offices of a statistical agent under contract to the Federal Insurance and Mitigation Administration, Federal Emergency Management Agency, Washington, DC 20472.

We also provide copies of some of the files to the FEMA Regional offices when additional information is requested from them.

Categories of Individuals Covered by the System:

Data elements regarding individuals insured.

Categories of Records in the System:

The NFIP has entered into an “Arrangement” with participating private insurance companies for the sale of flood insurance policies. Under the terms of the “Arrangement”, the private insurance companies have reporting requirements applicable to the writing and servicing of policies issued, advanced in the Transaction Record Reporting and Processing (TRRP) Plan. The data elements required by the TRRP plan essentially form the system of records for FEMA/FIMA's Bureau and Statistical Agent contract. The categories of records in the system follow:

(a) Data elements records for New Business.

(b) Data elements records for Policy Reinstatement Without Policy Changes.

(c) Data elements records for Policy Reinstatement With Policy Change.

(d) Data elements for Renewals.

(e) Data elements for Endorsements.

(f) Data elements for Policy Correction.

(g) Data elements for Cancellation.

(h) Data elements for Cancellation Correction.

(i) Data elements for Open Claim/Loss-Reserve.

(j) Data elements for Reopen Claim/Loss.

(k) Data elements for Change Reserve.

(l) Data elements for Partial Payment.

(m) Data elements for Close Claim/Loss.

(n) Data elements for Close Claim Loss Without Payment.

(o) Data elements for Addition to Final Payment.

(p) Data elements for Recovery After Final Payment.

(q) Data elements for General Claim/Loss Correction.

(r) Data elements for Claim Payment Correction.

(s) Data elements for Recovery Correction.

(t) Data elements for Special Allocated Loss Adjustment Expense.

(u) Data elements for Special Allocated Loss Adjustment Expense Correction.

(v) Data elements for Change Policy Number Key.

(w) Data elements for Change Date of Loss Key.

(x) Data elements for Change Claims Payment Date Key.

(y) Data elements for Lender Data (Expired Policy Notification).

(z) Adjuster Certification Application.

(aa) NFIP Listing of 1316 Properties.

Authority for Maintenance of the System:

National Flood Insurance Act of 1968 and the Flood Disaster Protection Act of 1973, 42 U.S.C. 4001-4129, 5 U.S.C. 301, Reorganization Plan No.3 of 1978, 3 CFR, 1978 Comp., p. 329; and E.O.12127, 3 CFR, 1979 Comp, p. 376.

Purpose(s):

To carry out the National Flood Insurance Program and verify nonduplication of benefits.

Routine Uses of Records Maintained in the System, Including Categories of Users and the Purposes of Such Uses:

Category of users | Purposes
1. To property loss reporting bureaus, State insurance departments, and insurance companies | investigating fraud or potential fraud in connection with claims, subject to the approval of the Office of Inspector General, FEMA.
2. To insurance adjusters, and lending institutions | for carrying out the purposes of the National Flood Insurance Program.
3. To FEMA's readiness, Recovery and Response Directorate, The Army Corps of Engineers, Small Business Administration, the American Red Cross, the Farm Service Agency for USDA, State and local government individual and family grant and assistance agencies | for determining eligibility for benefits and for verification of nonduplication of benefits following a flooding event or disaster.
4. To Write-Your-Own companies as authorized in 44 CFR 62.23 | to avoid duplication of benefits following a flooding event or disaster and for carrying out the purposes of the National Flood Insurance Program.
5. To State and local government individual and family grant agencies | to permit such agencies to assess the degree of financial burdens toward residents such as States and local governments might reasonably expect to assume in the event of a flooding diaster and to further the flood insurance marketing activities of the National Flood Insurance Program.
6. To State and local government agencies that provide the names and address of policyholders and a brief general description of their plan for acquiring and relocating their flood prone properties | for review by the Administrator, Federal Insurance Mitigation Adminstration to ensure that their State or local government agency is engaged in flood plain management, improved real property acquisitions, and relocation projects that are consistent with the National Flood Insurance Program and, upon the approval by the Administrator, Federal Insurance and Mitigation Administration, that the use furthers flood plain management and hazard mitigation goals of the Agency.
7. To the Army Corps of Engineers, state and local government agencies and municipalities | to review National Flood Insurance Program policy and claim files to assist them in hazard mitigation and flood plain management activities and in monitoring compliance with the flood plain management measures duly adopted by the community.
8. To state governments, federal agencies, and federal financial instrumentalities responsible for the supervision, approval, regulation or insuring of banks, savings and loan associations or similar institutions | for carrying out the purposes of the National Flood Insurance Program.
9. To private companies engaged in or planning to engage in activities to market or assist lenders and mortgage servicing companies | NFIP records may be released to aid efforts of lenders and mortgage servicing companies to comply with the requirements of the Flood Disaster Protection Act of 1973 and to market the sale of flood insurance policies under the National Flood Insurance Program.
10. To lending institutions, mortgage servicing companies and others servicing mortgage loan portfolios | NFIP records may be released to secure flood insurance protection for those properties that are a part of a lending institution's mortgage portfolio to assure lender compliance with the flood insurance purchase requirements of the Flood Disaster Protection Act of 1973.
11. To current owners of properties designated under the National Flood Insurance Program as Repetitive Loss Target Group properties | the dates and dollar amounts of loss payments made to prior owners may be released so that owners may evaluate whether that designation is appropriate and may, if they believe the designation is not appropriate, use the information to appeal that designation.
12. To the Special Direct Facility | NFIP Repetitive Loss records for the processing of Repetitive Loss Target Group policyholder underwriting and claims receords.
13. To Preferred Risk Property (PRP) owners who are contesting the denial of their PRP applications | the properties' prior loss history.
14. To federal agencies and state and local governments | NFIP records for research, analysis and feasibilities studies.

Disclosure to Consumer Reporting Agencies:

Disclosures pursuant to 5 U.S.C. 552a(b)(12): We may make disclosure from this system to “consumer reporting agencies” as defined in the Fair Credit Reporting Act (15 U.S.C. 1681a(f), or the Federal Claims Collection Act of 1966 (31 U.S.C. 3701 (a)(3)).

Policies and Practices for Storing, Retrieving, Accessing, Retaining, and Disposing of Records in System:

Storage:

Tape cartridge/disc/microfilm and paper files.

Retrievability:

By name of the policyholder(s) and policy number, property address and 9-digit zip code.

Safeguards:

Personnel screening, hardware and software computer security measures; we maintain paper records in locked containers and/or room. We maintain all records in areas that building guards secure during non-business hours. We retain records in areas accessible only to authorized personnel, who are properly screened, cleared and trained.

Retention and Disposal:

We keep data records for 7 years. Disposition of records will accord with FEMA Manual 5400.1.

System Manager(s) and Address:

Administrator, Federal Insurance and Mitigation Administration, Federal Emergency Management Agency, Washington, DC 20472.

Notification Procedures:

Individuals wishing to inquire whether this system of records contains information about themselves should contact the system manager identified above. Written requests should be clearly marked “Privacy Act Request” on the envelope and letter. Requests should include the full name of the individual, some type of appropriate personal identification, and current address. For personal visits, the individual should be able to provide some acceptable identification, that is, driver's license, employing organization's identification card, or other identification card.

Record Access Procedures:

Same as Notification procedure above.

Contesting Record Procedures:

Same as Notification procedures above. The letter should state clearly and concisely what information is being contested, the reasons for contesting it, and the proposed amendment to the information sought.

FEMA Privacy Act Regulations are published in 44 CFR part 6.

Records Source Categories:

Individuals insured under the National Flood Insurance Program (NFIP). Write-Your-Own (WYO) companies that write National Flood Insurance Program policies.

Exemptions Claimed for the System:

None.

FEMA/FIMA-4

System Name:

National Flood Insurance Program Marketing Records and Related Files.

Security Classification:

Unclassified.

System Location:

Various offices of a serving agent under contract to the Federal Insurance and Mitigation Administration, Federal Emergency Management Agency, Washington, DC 20472.

Categories of Individuals Covered by the System:

Consumers, flood insurance policyholders, insurance agents, Write-Your-Own companies and lenders.

Categories of Records in the System:

Under FIMA's Marketing program, the NFIP contractor collects records under its marketing vehicle, Cover America II.

Research: Cover America II contains NFIP records of research conducted with consumers, flood insurance policyholders, insurance agents, Write-Your-Own (WYO) companies and lenders, including names, addresses, and telephone numbers.

Direct Mail: Records of consumer and insurance agent names and addresses used for direct mailings.

The categories of records in the system are: market research data regarding the NFIP, including information with respect to awareness, attitudes and satisfaction as it relates to the NFIP, which is obtained through qualitative surveys approved by the Office of Management and Budget (OMB), including the names and addresses of participants.

Authority for Maintenance of the System:

National Flood Insurance Act of 1968 and the Flood Disaster Protection Act of 1973, 42 U.S.C. 4001-4129; 5 U.S.C. 301; Reorganization Plan No. 3 of 1978, 3 CFR, 1978, Comp., p. 329; and E.O. 12127, 3 CFR, 1979 Comp., p. 376.

Purpose(s):

To plan and implement a marketing campaign to notify the public regarding the availability of flood insurance protection and to alert the public to the risks of flooding, as well as to encourage the public to obtain more information regarding the NFIP.

Routine Uses of Records Maintained in the System Including Categories of Users and the Purposes of Such Uses:

None.

Disclosure to Consumer Reporting Agencies:

Disclosures pursuant to 5 U.S.C. 552a(b)(12): We may disclose from this system to “consumer reporting agencies” as defined in the Fair Credit Reporting Act (15 U.S.C. 1681a(f), or the Federal Claims Collection Act of 1966 (31 U.S.C. 3701(a)(3)).

Policies and Practices for Storing, Retrieving, Accessing, Retaining, and Disposing of Records in the System:

Storage:

Disc and paper files.

Retrievability:

By names, addresses and telephone numbers of consumers, policyholders, insurance agents, WYO companies, and lenders.

Safeguards:

Personnel screening, hardware and software computer security measures; we maintain paper records in locked containers and/or room. We maintain all records in areas that we secure during non-business hours. We retain records in areas accessible only to authorized personnel, who are properly screened, cleared and trained.

Retention and Disposal:

We keep records for research for 2 years. We will dispose of records in accord with FEMA Records Schedule N1-311-86-1, 2A12 and 2A13.

System Manager(s) and Address:

Administrator, Federal Insurance and Mitigation Administration, Federal Emergency Management Agency, Washington, DC 20472.

Notification Procedures:

Individuals wishing to inquire whether this system of records contains information about themselves should contact the system manager identified above. Written requests should be clearly marked “Privacy Act Request” on the envelope and letter. Requests should include the full name of the individual, some type of appropriate personal identification, and current address. For personal visits, the individual should be able to provide some acceptable identification, that is, driver's license, employing organization's identification card, or other identification card.

Record Access Procedures:

Same as Notification procedure above.

Contesting Record Procedures:

Same as Notification procedures above. The letter should state clearly and concisely what information is being contested, the reasons for contesting it, and the proposed amendment to the information sought.

FEMA Privacy Act Regulations are published in 44 CFR part 6.

Records Source Categories:

Consumers, flood insurance policyholders, flood insurance agents and lenders.

Exemptions Claimed for the System:

None.

FEMA/FIMA-5

System Name:

National Flood Insurance Program Telephone Response Center (TRC) Consumer and Policyholder Records and Related Documents Files.

Security Classification:

Unclassified.

System Location:

The office of a servicing agent under contract to the Federal Insurance and Mitigation Administration, Federal Emergency Management, Washington, DC 20472.

Categories of Individuals Covered by the System:

Consumers requesting NFIP Marketing material and individuals insured.

Categories of Records in the System:

FEMA/FIMA has a contractor administering its Telephone Response Center (TRC), where we maintain records of research conducted with consumers, insurance agents, Write-Your-Own (WYO) companies and individual respondents' names, addresses, and telephone numbers. The TRC contractor also maintains consumer records to review the effectiveness of its operation and for quality control purposes.

The categories of records in the system are: names and addresses of consumers seeking NFIP data, specifically, records regarding consumer research and inquiries.

Authority for Maintenance of the System:

National Flood Insurance Act of 1968 and Flood Disaster Protection Act of 1973, 42 U.S.C. 4001-4129; 5 U.S.C. 301; Reorganization Plan No. 3 of 1978, 3 CFR, 1978 Comp., p. 329; and E.O. 12127, 3 CFR, 1979 Comp., p. 376.

Purpose(s):

To carry out the National Flood Insurance Program.

Routine Uses of Records Maintained in the System, Including Categories of Users and the Purposes of Such Uses:

To the FEMA Distribution Center, the TRC transfers the names and addresses of consumers for delivery of consumer kits.

To the Bureau and Statistical Agent, the TRC transfers the addresses of callers/consumers who made inquiries to the NFIP to match them against the policyholder file to ascertain the number of callers who purchased a policy.

Disclosure to Consumer Reporting Agencies:

Disclosures pursuant to 5 U.S.C. 552a(b)(12): We may disclose from this system to “consumer reporting agencies” as defined in the Fair Credit Reporting Act (15 U.S.C. 1681a(f), or the Federal Claims Collection Act of 1966 (31 U.S.C. 3701(a)(3)).

Policies and Practices for Storing, Retrieving, Accessing, Retaining, and Disposing of Records in System:

STORAGE:

Tape cartridge/disc/ and paper files.

Retrievability:

By the consumer's name, address and telephone number.

Safeguards:

Personnel screening, hardware and software computer security measures; we maintain paper records in locked containers and/or room. We maintain all records in areas that building guards secure during non-business hours. We retain records in areas accessible only to authorized personnel, who are properly screened, cleared and trained.

Retention and Disposal:

We keep consumer records for 3 years.

System Manager(s) and Address:

Administrator, Federal Insurance and Mitigation Administration, Federal Emergency Management Agency, Washington, DC 20472.

Notification Procedures:

Individuals wishing to inquire whether this system of records contains information about themselves should contact the system manager identified above. Written requests should be clearly marked “Privacy Act Request” on the envelope and letter. Requests should include the full name of the individual, some type of appropriate personal identification, and current address. For personal visits, the individual should be able to provide some acceptable identification, that is, driver's license, employing organization's identification card, or other identification card, or other identification card.

Record Access Procedures:

Same as Notification procedure above.

Contesting Record Procedures:

Same as Notification procedures above. The letter should state clearly and concisely what information is being contested, the reasons for contesting it, and the proposed amendment to the information sought.

FEMA Privacy Act Regulations are published in 44 CFR part 6.

RECORDS SOURCE CATEGORIES:

Individuals who request information about flood insurance under the National Flood Insurance Program and individuals who are insured under the program.

SYSTEMS EXEMPTED FROM CERTAIN PROVISIONS OF THE ACT:

None.

FEMA/FIMA-6

System Name:

National Flood Insurance Special Direct Facility (SDF) Repetitive Loss Target Group Records and Related Files.

SECURITY CLASSIFICATION:

Unclassified.

SYSTEM LOCATION:

The office of a servicing agent under contract to the Federal Insurance and Mitigation Administration, Federal Emergency Management, Washington, DC 20472.

CATEGORIES OF INDIVIDUALS COVERED BY THE SYSTEM:

Individuals designated as RLTG policyholders.

CATEGORIES OF RECORDS IN THE SYSTEM:

FEMA/FIMA has selected a contractor to administer and operate the Repetitive Loss Program (RLP), through the Special Direct Facility (SDF). The SDF maintains records of the RLP, consisting of RLP underwriting and claims data that have met the threshold requirements to be designated as Repetitive Loss Target Group (RLTG) properties. The categories of records in the system follow:

Form | Title of form
FEMA Form 81-64 | Applications for Participation in the National Flood Insurance Program.
FEMA Form 81-16 | Flood Insurance Application.
FEMA Form 81-18 | Flood Insurance General Change Endorsements.
FEMA Form 81-23 | Request for Policy Processing and Renewal Information.
FEMA Form 81-17 | Flood Insurance Cancellation/Nullification Request Form.
FEMA Form 81-67 | Flood Insurance Preferred Risk Policy Application.
FEMA Form 81-31 | National Flood Insurance Program Elevation Certificate.
FEMA Form 81-65 | National Flood Insurance Program Floodproofing Certificate.
FEMA Form 81-25 | V Zone Risk Factor Rating Form.
FEMA Form 81-40 | National Flood Insurance Program Worksheet—Contents.
FEMA Form 81-41 | National Flood Insurance Program Worksheet—Building.
FEMA Form 41a | National Flood Insurance Program Worksheet—Building.
FEMA Form 81-42 | National Flood Insurance Proof of Loss.
FEMA Form 81-43 | National Flood Insurance Program Notice of Loss.
FEMA Form 81-44 | Statement as to full cost of repair or replacement under the replacement cost coverage, subject to the terms and conditions of the Standard Flood Insurance Policy.
FEMA Form 81-45 | Adjuster's Short Form Report.
FEMA Form 81-57 | National Flood Insurance Program Preliminary Report.
FEMA Form 81-58 | National Flood Insurance Program Final Report.
FEMA Form 81-59 | National Flood Insurance Program Narrative Report.
FEMA Form 81-63 | National Flood Insurance Program Cause of Loss/Subrogation Report.

This system may contain information regarding the name of the bank/lender, date of mortgage, address of bank/lender and if available, information on every loan placed on the property during the current owner's tenure. This system may also contain the taxpayer's identification number, which may be his or her social security number.

AUTHORITY FOR MAINTENANCE OF THE SYSTEM:

National Flood Insurance Act of 1968 and Flood Disaster Protection Act of 1973, 42 U.S.C. 4001-4129; 5 U.S.C. 301; Reorganization Plan No. 3 of 1978, 3 CFR, 1978 Comp., p. 329; and E.O. 12127, 3 CFR, 1979 Comp., p. 376.

PURPOSE(S):

To carry out the National Flood Insurance Program.

ROUTINE USES OF RECORDS MAINTAINED IN THE SYSTEM, INCLUDING CATEGORIES OF USERS AND THE PURPOSES OF SUCH USES:

To RTLG policyholders who are appealing the determination that their property is a repetitive loss property, NFIP repetitive loss property history prior to their ownership of the property will be provided.

To insurance agents, brokers, adjusters and lending institutions for carrying out the purposes of the National Flood Insurance Program and verifying nonduplication of benefits.

To the Bureau and Statistical Agent, the Special Direct Facility provides TRRP Plan updates regarding RLTG policy and claims transactions.

DISCLOSURE TO CONSUMER REPORTING AGENCIES:

Disclosures under 5 U.S.C. 552a(b)(12): We may make disclosures from this system to “consumer reporting agencies” as defined in the Fair Credit Reporting Act, 15 U.S.C. 1681a(f), or the Federal Claims Collection Act of 1966, 31 U.S.C. 3701(a)(3).

POLICIES AND PRACTICES FOR STORING, RETRIEVING, ACCESSING, RETAINING, AND DISPOSING OF RECORDS IN SYSTEM:

STORAGE:

Tape cartridge/disc/and paper files.

RETRIEVABILITY:

By the name of the RLTG policyholders and RLTG number.

SAFEGUARDS:

Personnel screening, hardware and software computer security measures; we maintain paper records in locked containers and/or room. We maintain all records in secure areas by key card access during non-business hours. We retain records in areas accessible only to authorized personnel, who are properly screened, cleared and trained.

RETENTION AND DISPOSAL:

We keep policy records as long as the owner desires insurance and pays premiums, and for an appropriate time thereafter and we keep claim records for 6 years and 3 months after final action, unless litigation exists. We will dispose of records in accord with FEMA Records Schedule N1-311-86-1, 2A12 and 2A13.

SYSTEM MANAGER(S) AND ADDRESS:

Administrator, Federal Insurance and Mitigation Administration, Federal Emergency Management Agency, Washington, DC 20472.

NOTIFICATION PROCEDURES:

Individuals wishing to inquire whether this system of records contains information about themselves should contact the system manager identified above. Written requests should be clearly marked “Privacy Act Request” on the envelope and letter. Requests should include the full name of the individual, some type of appropriate personal identification, and current address. For personal visits, the individual should be able to provide some acceptable identification, that is, driver's license, employing organization's identification card, or other identification card.

Record Access Procedures:

Same as Notification above.

Contesting Records Procedures:

Same as Notification procedures above. The letter should state clearly and concisely what information is being contested, the reasons for contesting it, and the proposed amendment to the information sought. FEMA Privacy Act regulations are published in 44 CFR part 6.

Records Source Categories:

Individuals who apply for flood insurance under the National Flood Insurance Program and individuals who are insured under the program.

Systems Exempted From Certain Provisons of the Act:

None.

FEMA/FIMA-7

System Name:

National Flood Insurance Community Rating System and Related Documents Files.

Security Classification:

Unclassified.

System Location:

Various offices of a firm selected to administer the CRS program for the Federal Insurance and Mitigation Administration, Federal Emergency Management Agency, Washington, DC 20472. We also provide copies of some of the files to FEMA Regional offices when they request additional information.

Categories of Individuals Covered by the System:

Communities that have made CRS applications and Repetitive Loss property owners.

Categories of Records in the System:

FIMA/FEMA has created the Community Rating System (CRS), a program to adjust NFIP insurance premium rates based on the mitigation activities implemented by a community. A firm has been selected to process CRS applications. The categories of records in the system are: community CRS applications and repetitive loss property owners.

Authority for Maintenance of the System:

National Flood Insurance Act of 1968 and Flood Disaster Protection Act of 1973, 42 U.S.C. 4001-4129; 5 U.S.C. 301; Reorganization Plan No. 3 of 1978, 3 CFR, 1978 Comp., p. 329; and E.O. 12127, 3 CFR, 1979 Comp., p. 376.

Purpose(s):

To carry out the National Flood Insurance Program.

Routine Uses of Records Maintained in the System, Including Categories of Users and the Purposes of Such Uses:

To communities, repetitive loss records may be provided to address repetitive loss problems within the communities.

To the Bureau and Statistical Agent, we provide repetitive loss records for communities that have updated their repetitive loss mitigative measures.

Disclosure to Consumer Reporting Agencies:

Disclosures under 5 U.S.C. 552a(b)(12): We may make disclosures from this system to “consumer reporting agencies” as defined in the Fair Credit Reporting Act, 15 U.S.C. 1681a(f), or the Federal Claims Collection Act of 1966, 31 U.S.C. 3701(a)(3).

Policies and Practices for Storing, Retrieving, Accessing, Retaining, and Disposing of Records in System:

Storage:

Magnetic cartridge/disc/and paper files.

Retrievability:

By the community's name and number. By the NFIP policyholder name and policy number. By the repetitive loss locator number.

Safeguards:

Personnel screening, hardware and software computer security measures; we maintain paper records in locked containers and/or room. We maintain all records in secure areas during non-business hours. We retain records in areas accessible only to authorized personnel, who are properly screened, cleared and trained.

Retention and Disposal:

We keep records for 3 years.

System Manager(s) and Address:

Administrator, Federal Insurance and Mitigation Administration, Federal Emergency Management Agency, Washington, DC 20472.

Notification Procedures:

Individuals wishing to inquire whether this system of records contains information about themselves should contact the system manger identified above. Written requests should be clearly marked “Privacy Act Request” on the envelope and letter. Requests should include the full name of the individual, some type of appropriate personal identification, and current address. For personal visits, the individual should be able to provide some acceptable identification, that is, driver's license, employing organization's identification card, or other identification card.

Record Access Procedures:

Same as Notification above.

Contesting Records Procedures:

Same as Notification procedures above. The letter should state clearly and concisely what information is being contested, the reasons for contesting it, and the proposed amendment to the information sought. FEMA Privacy Act regulations are published in 44 CFR part 6.

Records Source Categories:

Individuals who apply for flood insurance under the National Flood Insurance Program and individuals who are insured under the program.

Systems Exempted From Certain Provisions of the Act:

None.

Appendix A

Introduction to Routine Uses: We have identified certain routine uses that apply to many of the FEMA systems of notice records. We will list the specific routine uses applicable to an individual system of record under the “Routine Use” section of the notice itself and they will correspond to the numbering of the routine uses published below. These uses are published only once in the interest of simplicity, economy and to avoid redundancy, rather than repeating them in every individual system notice.

(1) Routine Use—Law Enforcement: A record from any FEMA system of records, which indicates either by itself or in combination with other information within FEMA's possession, a violation or potential violation of law, whether civil, criminal or regulatory in nature, and whether arising by general statute, or by regulation, rule or order issued pursuant thereto, and which we may disclose, as a routine use, to the appropriate agency whether Federal, State, territorial, local or foreign, or foreign agency or professional organization, charged with the responsibility of enforcing, implementing, investigating or prosecuting such violation or charged with implementing the statute, rule, regulation or order issued under it.

(2) Routine Use—Disclosure When Requesting Information: We may disclose as a routine use a record from a FEMA system of records to a Federal, State or local agency, maintaining civil, criminal, regulatory, licensing or other enforcement information or other pertinent information, such as current licenses, if necessary, to obtain information, relevant to an agency decision concerning the hiring or retention of an employee, the issuance of a security clearance, the letting of a contract, or the issuance of a license, grant or other benefit.

(2) Routine Use—Disclosure of Requested Information: We may disclose as a routine use a record from a FEMA system of records to a Federal agency, in response to a written request in connection with the hiring or retention of an employee, the issuance of an investigation of an employee, the letting of a contract, or the issuance of a license, grant, or other benefit by the requesting agency, to the extent that the information is relevant and necessary to the requesting agency's decision on the matter.

(3) Routine Use—Grievance, Complaint, Appeal: We may disclose as a routine use a record from a FEMA system of records to an authorized appeal or grievance examiner, formal complaints examiner, equal opportunity investigator, arbitrator, mediator, or other duly authorized official engaged in investigation or settlement of a grievance, complaint, or appeal by an employee. We may disclose a record from this system of records to the Office of Personnel Management as government-wide records; we will consider those records as part of the government-wide system. We may transfer as a routine use other official personnel records covered by notices published by FEMA and considered to be separate systems of records to the Office of Personnel management in accordance with official personnel programs and activities.

(5) Routine Use—Congressional Inquiries: We may disclose as a routine use a record from a FEMA system of records to a Member of Congress or to a Congressional staff member in response to an inquiry of the Congressional office made at the request of the individual about whom the record is maintained.

(6) Routine Use—Private Relief Legislation: We may disclose as a routine use the information contained in a FEMA system of records to the Office of Management and Budget in connection with the review of private relief legislation as set forth in OMB Circular No. A-19 at any stage of the legislative coordination and clearance process as set forth in that circular.

(7) Routine Use—Disclosure to the Office of Personnel Management: We may disclose as a routine use a record from a FEMA system of records to the Office of Personnel Management concerning information on pay and leave benefits, retirement deductions, and any other information concerning personnel actions.

(8) Routine Use—Disclosure to National Archives and Records Administration: We may disclose as a routine use a record from a FEMA system of records management inspections conducted under authority of 44 U.S.C. 2904 and 2906.

(9) Routine Use—Grand Jury: We may disclose as a routine use a record from any system of records to a grand jury agent pursuant to a federal or State grand jury subpoena or to a prosecution request that such record be released for the purpose of its introduction to a grand jury.

[FR Doc. 02-1549 Filed 1-22-02; 8:45 am]

BILLING CODE 6718-03-P